DEPARTMENT OF JUSTICE

Notice of Lodging of Consent Decree Pursuant to the Comprehensive Environmental Response, Compensation, and Liability Act

In accordance with Departmental policy, 28 CFR 50.7, notice is hereby given that a proposed consent decree in United States v. Cook Development Corporation, Birch Creek Construction, Inc., Civil Action No. 06-CV-617-AS, was lodged on December 20, 2006 with the United States District Court for the District of Oregon. Under this consent Decree, the Settling Defendant is required by pay $30,000 in penalty and implementation of a compliance program for violations of the National Emissions Standard for Hazardous Air Pollutants relating to asbestos.

The Department of Justice will receive, for a period of thirty (30) days from the date of this publication, comments relating to the proposed consent decree. Comments should be addressed to the Assistant Attorney General, Environmental and Natural Resources Division, P.O. Box 7611, U.S. Department of Justice, Washington, DC 20044-7611, and should refer to United States v. Cook Development Corporation, Birch Creek Construction, Inc., DOJ Ref. 90-5-2-1-08803.

The proposed consent decree may be examined at the office of the the United States Attorney, 1000 SW Third Avenue, Suite 600, Portland, OR 97204-2902 and at U.S. EPA Region 10, 1200 Sixth Avenue, Seattle, WA 98101. During the comment period, the consent decree may be examined on the following Department of Justice Web site to http://www.usdoj.gov/enrd/Consent_Decrees.html/. A copy of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $3.75 for United States v. Cook Development Corporation, Birch Creek Construction, Inc., (25 cents per page reproduction cost) payable to the U.S. Treasury.

Robert E. Maher, Jr.,
Assistant Section Chief, Environmental Enforcement Section.

[FR Doc. 06-9922 Filed 12-28-06; 8:45 am]

BILLING CODE 4410-15-M